DEPARTMENT OF HOMELAND SECURITY

Coast Guard

33 CFR Part 117

[Docket No. USCG-2023-0601]

Drawbridge Operation Regulation: Atlantic Intracoastal Waterway; West Palm Beach, FL

AGENCY: Coast Guard, DHS.

ACTION: Notice of temporary deviation from regulations; request for comments.

SUMMARY: The Coast Guard is issuing a temporary deviation from the operating schedule that governs the Flagler Memorial Bridge, across Atlantic Intracoastal Waterway (AICW), mile 1021.8, at West Palm Beach, Florida. Palm Beach County and the communities surrounding the bridge have requested the Coast Guard consider placing additional weekday restrictions during peak traffic hours to assist with alleviating vehicle congestion. This deviation will test a change to the drawbridge operation schedule to determine whether a permanent change to the schedule is needed. The Coast Guard is seeking comments from the public regarding this deviation.

DATES: This deviation is effective from 12:01 a.m. on August 1, 2023, through 11:59 p.m. on January 22, 2024.

Comments and related material must reach the Coast Guard on or before September 29, 2023.

ADDRESSES: You may submit comments identified by docket number USCG-2023-0601 using Federal Decision Making Portal at https://www.regulations.gov.

See the “Public Participation and Request for Comments” portion of the SUPPLEMENTARY INFORMATION section below for instructions on submitting comments.

FOR FURTHER INFORMATION CONTACT: If you have questions on this test deviation, call or email If you have questions on this test deviation, call or email Ms. Jennifer Zercher, Bridge Management Specialist, Seventh Coast Guard District; telephone 305-415-6740, email Jennifer.N.Zercher@uscg.mil.

SUPPLEMENTARY INFORMATION:

I. Background, Purpose and Legal Basis

The Flagler Memorial Bridge, across Atlantic Intracoastal Waterway (AICW), mile 1021.8, at West Palm Beach, Florida is a double-leaf bascule bridge with a 24-foot vertical clearance at mean high water in the closed position. The normal operating schedule is set forth in 33 CFR 117.261(u).

Palm Beach County and communities surrounding the bridge requested the Coast Guard consider allowing the drawbridge to remain closed to navigation during morning and evening peak traffic hours. The Coast Guard has determined that allowing extended daily closures along this portion of the AICW will not meet the reasonable needs of navigation. However, to assist Palm Beach County and communities surrounding the bridge with alleviating vehicle traffic in the area, the Coast Guard is issuing the following temporary deviation to test an alternate drawbridge operating schedule.

Under this temporary deviation, the Flagler Memorial Bridge will open on the quarter and three-quarter hour, except that Monday through Friday (except Federal holidays) from 7:30 to 9 a.m. and from 4 to 6 p.m., the draw need only open on the quarter hour.

The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

II. Public Participation and Request for Comments

We view public participation as essential and will consider all comments and material received during the comment period. Your comment can help shape the outcome of this temporary deviation. If you submit a comment, please include the docket number for this temporary deviation, indicate the specific section of this document to which each comment applies, and provide a reason for each suggestion or recommendation.

Submitting comments. We encourage you to submit comments through the Federal Decision Making Portal at https://www.regulations.gov. To do so, go to https://www.regulations.gov, type USCG- 2023-0601 in the search box and click “Search.” Next, look for this document in the Search Results column, and click on it. Then click on the Comment option. If your material cannot be submitted using https://www.regulations.gov, contact the person in the FOR FURTHER INFORMATION CONTACT section of this document for alternate instructions.

View material in the docket. To view documents mentioned in this deviation as being available in the docket, find the docket as described in the previous paragraph, and then select “Supporting & Related Material” in the Document Type column. Public comments will also be placed in our online docket and can be viewed by following instructions on the https://www.regulations.gov Frequently Asked Questions web page. Also, if you go to the online docket and sign up for email alerts, you will be notified when comments, future actions or updates are posted to the docket.

We review all comments received, but we will only post comments that address the topic of this deviation. We may choose not to post off-topic, inappropriate, or duplicate comments that we receive.

We accept anonymous comments. Comments we post to https://www.regulations.gov will include any personal information you have provided. For more about privacy and submissions in response to this document, see DHS's eRulemaking System of Records notice (85 FR 14226, March 11, 2020).

Dated: July 26, 2023.
Randall D. Overton,
Director, Bridge Administration, Seventh Coast Guard District.

[FR Doc. 2023-16152 Filed 7-28-23; 8:45 am]

BILLING CODE 9110-04-P